DEPARTMENT OF TRANSPORTATION

Federal Aviation Administration

Aviation Rulemaking Advisory Committee; Transport Airplane and Engine Issues—New Task

AGENCY: Federal Aviation Administration (FAA), DOT.

ACTION: Notice of new task assignment for the Aviation Rulemaking Advisory Committee (ARAC).

SUMMARY: The FAA assigned the Aviation Rulemaking Advisory Committee a new task to review the operations rule changes proposed in Notice 84-17A, including the public comments received and prepare a report for the agency. This notice is to inform the public of this ARAC activity.

FOR FURTHER INFORMATION CONTACT: John McGraw, 1601 Lind Ave. SW., Renton, Washington 98055-4056, 425-227-1171, john.mcgraw@faa.gov.

SUPPLEMENTARY INFORMATION:

Background

The FAA has established an Aviation Rulemaking Advisory Committee to provide advice and recommendations to the FAA Administrator on the FAA's rulemaking activities with respect to aviation-related issues. This includes obtaining advice and recommendations on the FAA's commitments to harmonize Title 14 of the Code of Federal Regulations (14 CFR) with its partners in Europe and Canada.

The Task

Phase I

Review the operational rule changes (parts 121, 125, and 135) proposed in Notice 84-17A, and the public comments received in response to these proposals. Prepare a report for the FAA which will provide, among other things, data from industry supporting a decision on whether a retrofit of the fleet should be mandated, and if so, what airplanes should be affected. This data should include the estimated costs and benefits of retrofitting the fleet.

Schedule: This report will be due within 90 days of publication of the task in the Federal Register.

Phase II

The FAA will develop a disposition document, e.g., a final rule or supplemental NPRM, based on the ARAC report. The FAA will ask ARAC to review the document. ARAC will prepare a report for the FAA documenting and recommending changes and identifying any remaining unresolved issues.

Schedule: This report will be due to the FAA within 60 days of receipt of the draft document from the FAA.

The FAA may seek ARAC review and comment subsequent to publication of any proposal action on this issue.

ARAC Acceptance of Tasks

ARAC accepted the task and assigned the task to the Powerplant Installation Harmonization Working Group, Transport Airplane and Engine Issues. The working group will serve as staff to ARAC and assist in the analysis of the assigned task. ARAC must review and approve the working group's recommendations. If ARAC accepts the working group's recommendations, it will forward them to the FAA.

Working Group Activity

The Powerplant Installation Harmonization Working Group is expected to comply with the procedures adopted by ARAC. As part of the procedures, the working group is expected to:

1. Recommend a work plan for completion of the task, including the rationale supporting such a plan for consideration at the next meeting of the ARAC on transport airplane and engine issues held following publication of this notice.

2. Give a detailed conceptual presentation of the proposed recommendations prior to proceeding with the work in item 3 below.

3. Draft the appropriate documents and required analyses and/or any other related materials or documents.

4. Provide a status report at each meeting of the ARAC held to consider transport airplane and engine issues.

Participation in the Working Group

The Powerplant Installation Harmonization Working Group will be composed of technical experts having an interest in the assigned task. A working group member need not be a representative or a member of the full committee.

An individual who has expertise in the subject matter and wishes to become a member of the working group should write to the person listed under the caption FOR FURTHER INFORMATION CONTACT expressing that desire, describing his or her interest in the task, and stating the expertise he or she would bring to the working group. All requests to participate must be received no later than April 30, 2001. The requests will be reviewed by the assistant chair, the assistant executive director, and the working group chair. Individuals will be advised whether or not their request can be accommodated.

Individuals chosen for membership on the working group will be expected to represent their aviation community segment and participate actively in the working group (e.g., attend all meetings, provide written comments when requested to do so, etc.). They also will be expected to devote the resources necessary to support the working group in meeting any assigned deadlines. Members are expected to keep their management chain and those they may represent advised of working group activities and decisions to ensure that the agreed technical solutions do not conflict with their sponsoring organization's position when the subject being negotiated is presented to ARAC for approval.

Once the working group has begun deliberations, members will not be added or substituted without the approval of the assistant chair, the assistant executive director, and the working group chair.

The Secretary of Transportation determined that the formation and use of the ARAC is necessary and in the public interest in connection with the performance of duties imposed on the FAA by law.

Meetings of the ARAC will be open to the public. Meetings of the Powerplant Installation Harmonization Working Group will not be open to the public, except to the extent that individuals with an interest and expertise are selected to participate. The FAA will make no public announcement of working group meetings.

Issued in Washington, DC, on March 14, 2001.
Anthony F. Fazio,
Executive Director, Aviation Rulemaking Advisory Committee.

[FR Doc. 01-7067 Filed 3-21-01; 8:45 am]

BILLING CODE 4910-13-M